NATIONAL SCIENCE FOUNDATION

Special Emphasis Panel in Electric and Communications Systems; Notice of Meetings

In accordance with the Federal Advisory Committee Act (Pub. L. 92-463, as amended), the National Science Foundation announces the following meetings of the Special Emphasis Panel in Electrical and Communications Systems (1196):

Date/Time: November 13, 2000, 8:30 am-5 pm.

Agenda: To review and evaluate CAREER (MEMS) proposals submitted in response to program announcement (NSF 00-89).

Date: November 14, 2000, 8:30 am-5 pm.

Agenda: To review and evaluate CAREER (Photonics) proposal submitted in response to program announcement (NSF 00-89).

Place: 4201 Wilson Boulevard, Suite 680, Arlington, VA.

Contact: Dr. Filbert Bartoli, Program Director, Division of Electrical and Communications Systems, National Science Foundation, 4201 Wilson Blvd., Room 675, Arlington, VA 22230. Telephone: (703) 292-8339.

Type of Meetings: Closed.

Purpose of Meetings: To provide advice and recommendations concerning proposals submitted to NSF for financial support.

Reasons for Closing: The proposals being reviewed include information of a proprietary or confidential nature, including technical information; financial data, such as salaries, and personal information concerning individuals associated with the proposals. These matters are exempt under 5 U.S.C. 552b(c), (4) and (6) of the Government in the Sunshine Act.

Dated: October 23, 2000.
Karen J. York,
Committee Management Officer.

[FR Doc. 00-27542 Filed 10-25-00; 8:45 am]

BILLING CODE 7555-01-M